SOCIAL SECURITY ADMINISTRATION

[Docket No: SSA-2023-0019]

Agency Information Collection Activities: Comment Request

The Social Security Administration (SSA) publishes a list of information collection packages requiring clearance by the Office of Management and Budget (OMB) in compliance with Public Law 104-13, the Paperwork Reduction Act of 1995, effective October 1, 1995. This notice includes one new information collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA. Comments: https://www.reginfo.gov/public/do/PRAMain. Submit your comments online referencing Docket ID Number [SSA-2023-0019].

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAMain, referencing Docket ID Number [SSA-2023-0019].

SSA submitted the information collection below to OMB for clearance. Your comments regarding this information collection would be most useful if OMB and SSA receive them 30 days from the date of this publication. To be sure we consider your comments, we must receive them no later than July 28, 2023. Individuals can obtain copies of this OMB clearance package by writing to OR.Reports.Clearance@ssa.gov.

State of Georgia's Criminal Justice Coordinating Council's (CJCC) Evaluation of the Implementation of the Supplemental Security Income (SSI)/Social Security Disability Insurance (SSDI) Outreach, Access, and Recovery (SOAR) Model in County Jails—0960-NEW

Background

SSA is requesting clearance to collect data necessary to evaluate an intervention under the Interventional Cooperative Agreement Program (ICAP) with the State of Georgia's Criminal Justice Coordinating Council (CJCC). ICAP allows SSA to partner with various non-federal groups and organizations to advance interventional research connected to the Supplemental Security Income (SSI) and Social Security Disability Insurance (SSDI) programs. SSA awarded CJCC a cooperative agreement to conduct an intervention and evaluation of Supplemental Security Income (SSI)/Social Security Disability Insurance (SSDI) Outreach, Access, and Recovery (SOAR) model in county jails with inmates with serious and persistent mental illness (SPMI) across the state. In addition to SSA, CJCC has partnered with the following: (1) Applied Research Services (ARS); (2) the Georgia Department of Behavioral Health and Developmental Disabilities (DBHDD); and (3) four county jails to implement the program.

ICAP CJCC Project Description

Investigators hypothesize that untreated mental illness and repeated psychiatric crises may be a factor in jail recidivism. Connection to SSI/SSDI and attendant insurance benefits may help a person with SPMI obtain treatment and interrupt criminogenic behavior. The intervention will connect respondents in four county jails identified as having SPMI to Medicaid Eligibility Specialists (MES) hired and trained by the Georgia DBHDD, who will help them apply for SSI and SSDI. Respondents in two of the four counties (Fulton County Jail and Cobb County Jail) will also have the option of working with a Forensic Peer Mentor (FPM), a formerly incarcerated individual who is familiar with resources that may help participants increase their quality-of-life post incarceration and avoid recidivism. SSA anticipates the two DBHDD MESs will each serve 45 participants per year, for a total of 90 participants per year.

To maximize the likelihood of the SSI/SSDI application approval, the MES will employ the SOAR method, which uses in-depth medical and personal summaries of disability to facilitate the SSI/SSDI application process. Researchers will collect data from participant surveys to evaluate and study the impact of the intervention. Through the data collected through these surveys, along with administrative data from SSA, the State of Georgia, participating counties, and DBHDD, SSA hopes to address the following research questions:

• Does connection to a SOAR-trained specialist increase the likelihood that a person with SPMI in jail will be approved for SSI/SSDI benefits?

• If a person with SPMI receives SSI/SSDI benefits, are they able to connect to treatment resources that they may not have been able to obtain before?

• If a person with SPMI connects to treatment resources and successfully engages with them, are they able to achieve mental health recovery and stay out of jail?

The respondents are individuals with serious and persistent mental illness incarcerated in county jails in the state of Georgia.

Modality of completion | Number of respondents | Frequency of response | Average burden per response (minutes) | Estimated total annual burden (hours) | Average theoretical hourly cost amount (dollars) * | Average wait time for teleservice centers (minutes) ** | Total annual opportunity cost (dollars) ***
Initial Enrollment Survey (Paper) | 90 | 1 | 19 | 29 | * 12.81 |  | *** 371
Informed Consent (Paper) | 90 | 1 | 10 | 15 | * 12.81 |  | *** 192
Follow-up Survey (Internet or Telephone) | 90 | 2 | 23 | 69 | * 12.81 | ** 19 | *** 1,255
Totals | 270 |  |  | 113 |  |  | *** 1,818
* We based this figure on the average DI payments based on SSA's current FY 2023 data (https://www.ssa.gov/legislation/2022factsheet.pdf).
** We based this figure on average FY 2023 wait times for teleservice centers (approximately 19 minutes per respondent), based on SSA's current management information data.
*** This figure does not represent actual costs that SSA is imposing on recipients of Social Security payments to complete this application; rather, these are theoretical opportunity costs for the additional time respondents will spend to complete the application. There is no actual charge to respondents to complete the application.

Dated: June 23, 2023.
Naomi Sipple,
Reports Clearance Officer, Social Security Administration.

[FR Doc. 2023-13782 Filed 6-27-23; 8:45 am]

BILLING CODE 4191-02-P